DEPARTMENT OF JUSTICE

Antitrust Division

Notice Pursuant to the National Cooperative Research and Production Act of 1993—Time Domain Corporation

Notice is hereby given that, on July 5, 2000, pursuant to Section 6(a) of the National Cooperative Research and Production Act of 1993, 15 U.S.C. 4301 et seq. (“the Act”), Time Domain Corporation has filed written notifications simultaneously with the Attorney General and the Federal Trade Commission disclosing (1) the identities of the parties and (2) the nature and objectives of the venture. The notifications were filed for the purpose of involving the Act's provisions limiting the recovery of antitrust plaintiffs to actual damages under specified circumstances. Pursuant to Section 6(b) of the Act, the identities of the parties are Time Domain Corporation, Huntsville, AL; and GE Corporation Research and Development, Niskayuna, NY.

The nature and objectives of the venture are to conduct research on an ultra-wideband RF technology that will enable precise tracking, data telemetry, and wireless Local Area Network (LAN) applications to run on the same infrastructure and operate within the existing Radio Frequency (RF) spectrum. The initial application is anticipated to be in a hospital environment. The activities of this joint venture project will be partially funded by an award from the Advanced Technology Program, National Institute of Standards and Technology, Department of Commerce.

Constance K. Robinson,
Director of Operations, Antitrust Division.

[FR Doc. 00-20306 Filed 8-10-00; 8:45 am]

BILLING CODE 4410-11-M